DEPARTMENT OF ENERGY

Notice of Request for Information (RFI) on Using a Consent-Based Siting Process To Identify Federal Interim Storage Facilities

AGENCY: Office of Spent Fuel and Waste Disposition, Office of Nuclear Energy, Department of Energy.

ACTION: Request for information.

SUMMARY: The Office of Nuclear Energy (NE), U.S. Department of Energy (DOE), requests information on how to site Federal facilities for the temporary, consolidated storage of spent nuclear fuel using a consent-based approach. DOE anticipates that communities; governments at the local, State, and Tribal levels; members of the public; energy and environmental justice groups; organizations or corporations; and other stakeholders may be interested in responding to this Request for Information (RFI). We especially welcome insight from people, communities, and groups that have historically not been well-represented in these discussions. Responses to the RFI will inform development of a consent-based siting process, overall strategy for an integrated waste management system, and possibly a funding opportunity.

DATES: Responses to the RFI must be received by March 4, 2022 by 5:00 p.m. (ET).

ADDRESSES: Interested parties may submit comments electronically to consentbasedsiting@hq.doe.gov. Include “RFI: Consent-Based Siting and Federal Interim Storage” in the subject line of the email. Email attachments can be provided as a Microsoft Word (.docx) file or an Adobe PDF (.pdf) file, prepared in accordance with the detailed instructions in the RFI. Documents submitted electronically should clearly indicate which topic areas and specific questions are being addressed, and should be limited to no more than 45MB in size.

FOR FURTHER INFORMATION CONTACT: Please send any questions to consentbasedsiting@hq.doe.gov, or to Alisa Trunzo at 301-903-9600.

SUPPLEMENTARY INFORMATION:

Background

In 2015, DOE began developing a consent-based process for siting storage or disposal facilities collaboratively with members of the public, communities, stakeholders, and governments at the Tribal, State, and local levels. As part of this initiative, the Department issued an Invitation for Public Comment (www.energy.gov/sites/prod/files/2016/12/f34/Summary of Public Input Report FINAL.pdf) and conducted a series of public meetings to seek feedback and inform future efforts. Based on that feedback, as well as the findings of several expert groups, DOE developed and requested public comment on the Draft Consent-Based Siting Process for Consolidated Storage and Disposal Facilities for Spent Nuclear Fuel and High-Level Radioactive Waste (the “Draft Consent-Based Siting Process,” www.energy.gov/sites/prod/files/2017/01/f34/Draft Consent-Based Siting Process and Siting Considerations.pdf) in January 2017.

In the Consolidated Appropriations Act, 2021, Congress appropriated funds to the Department for interim storage activities. Interim storage is an important component of a waste management system and will enable near-term consolidation and temporary storage of spent nuclear fuel. This will allow for removal of spent nuclear fuel from reactor sites, provide useful research opportunities, and build trust and confidence with stakeholders and the public by demonstrating a consent-based approach to siting.

DOE anticipates that an interim storage facility would need to operate until the fuel can be moved to final disposal. The duration of the interim period depends on the completion of a series of significant steps, such as the need to identify, license, and construct a facility, plus the time needed to move the spent nuclear fuel.

Questions for Input

Given Congressional appropriations to move forward with interim storage activities, we are seeking input on using a consent-based process to site federal interim storage facilities. We will use responses to this RFI, along with comments received in 2017 on the Draft Consent-Based Siting Process (www.energy.gov/sites/prod/files/2017/01/f34/Draft Consent-Based Siting Process and Siting Considerations.pdf), to help develop a consent-based siting process for use in siting federal interim storage facilities, the overall strategy for development and operation of an integrated waste management system, and possibly a funding opportunity.

Respondents to this RFI do not need to address every question, but DOE welcomes input in all of the following areas.

Area 1: Consent-Based Siting Process

1. How should the Department build considerations of social equity and environmental justice into a consent-based siting process?

2. What role should Tribal, State, and local governments and officials play in determining consent for a community to host a federal interim storage facility?

3. What benefits or opportunities could encourage local, State, and Tribal governments to consider engaging with the Department as it works to identify federal interim storage sites?

4. What are barriers or impediments to successful siting of federal interim storage facilities using a consent-based process and how could they be addressed?

5. How should the Department work with local communities to establish reasonable expectations and plans concerning the duration of storage at federal interim storage facilities?

6. What organizations or communities should the Department consider partnering with to develop a consent-based approach to siting?

7. What other issues, including those raised in the Draft Consent-Based Siting Process (www.energy.gov/sites/prod/files/2017/01/f34/Draft Consent-Based Siting Process and Siting Considerations.pdf), should the Department consider in implementing a consent-based siting process?

Area 2: Removing Barriers to Meaningful Participation

1. What barriers might prevent meaningful participation in a consent-based siting process and how could those barriers be mitigated or removed?

2. What resources might be needed to ensure potentially interested communities have adequate opportunities for information sharing, expert assistance, and meaningful participation in the consent-based siting process?

3. How could the Department maximize opportunities for mutual learning and collaboration with potentially interested communities?

4. How might the Department more effectively engage with local, State, and Tribal governments on consent-based siting of federal interim storage facilities?

5. What information do communities, governments, or other stakeholders need to engage with the Department on consent-based siting of federal interim storage facilities?

Area 3: Interim Storage as Part of a Waste Management System

1. How can the Department ensure considerations of social equity and environmental justice are addressed in developing the nation's waste management system?

2. What are possible benefits or drawbacks to co-locating multiple facilities within the waste management system or co-locating waste management facilities with manufacturing facilities, research and development infrastructure, or clean energy technologies?

3. To what extent should development of an interim storage facility relate to progress on establishing a permanent repository?

4. What other issues should the Department consider in developing a waste management system?

Response Preparation and Transmittal Instructions

Please submit responses to this RFI electronically to consentbasedsiting@hq.doe.gov no later than 5:00 p.m. (ET) on March 4, 2022. Please include in the subject line “RFI: Consent-Based Siting and Federal Interim Storage.” Responses must be received by March 4, 2022, for immediate consideration; however, DOE will continue to accept responses after that date and will review as time permits. Responses may be directly emailed or provided as attachments to an email. It is recommended that attachments with file sizes exceeding 25MB be compressed (i.e., zipped) to ensure message delivery; however, no email shall exceed a total of 45MB, including all attachments. Responses sent as an email attachment must be provided as a Microsoft Word (.docx) or Portable Document Format (.pdf) document.

Please identify your answers by responding to a specific question or topic, if applicable. Please clearly state the specific question to which you are responding. All proprietary and restricted information must be clearly marked. Respondents may answer as many or as few questions as they wish. DOE will not respond to individual submissions. A response to this RFI will not be viewed as a binding commitment to develop or pursue the project or ideas discussed.

Please provide the following information at the start of your response:

• Community, organization, or company (if applicable)

• Contact name

• Contact's address, phone number, and email address

Data collected from this RFI will not be protected from the public view in any way. Individual commentors' names and addresses (including email addresses) received as part of this RFI are part of the public record. DOE plans to post all comment documents received in their entirety at following the close of the public comment period. Any person wishing to have their name, address, email address, or other identifying information withheld from the public record of comment documents must state this request prominently at the beginning of any comment document, or else no redactions will be made.

Disclaimer and Important Note

This RFI is not a Funding Opportunity Announcement (FOA), prize, or any other type of solicitation; therefore, DOE is not accepting applications at this time. DOE may issue a FOA or other solicitation in the future based on or related to the content and responses to this RFI; however, there is no guarantee that a FOA or solicitation will be issued as a result of this RFI. Responding to this RFI does not provide any advantage or disadvantage to potential applicants if DOE chooses to issue a FOA regarding the subject matter. Final details, including the anticipated award size, quantity, and timing of DOE-funded awards, will be subject to Congressional appropriations and direction.

Any information obtained as a result of this RFI is intended to be used by the Government on a non-attribution basis for planning and strategy development. This RFI does not constitute a formal solicitation for proposals or abstracts. Your response to this notice will be treated as information only. DOE will review and consider all responses in its formulation of program strategies for the identified materials of interest that are the subject of this request. DOE will not provide reimbursement for costs incurred in responding to this RFI. Respondents are advised that DOE is under no obligation to acknowledge receipt of the information received or provide feedback to respondents with respect to any information submitted under this RFI. Responses to this RFI do not bind DOE to any further actions related to this topic.

If you need assistance in a language other than English, please visit www.energy.gov/consentbasedsiting where additional resources will be made available or contact consentbasedsiting@hq.doe.gov.

Thank you in advance for your input, and we look forward to receiving your responses.

Signing Authority

This document of the Department of Energy was signed on November 18, 2021, by Dr. Kathryn Huff, Principal Deputy Assistant Secretary for the Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 19, 2021.
Treena V. Garrett,
Federal Register Liaison Officer, U.S. Department of Energy.

[FR Doc. 2021-25724 Filed 11-30-21; 8:45 am]

BILLING CODE 6450-01-P